FEDERAL DEPOSIT INSURANCE CORPORATION

Notice of a Matter To Be Deferred From the Agenda for Consideration at an Agency Meeting

Pursuant to the provisions of the “Government in the Sunshine Act” (5 U.S.C. 552b), notice is hereby given that the following matter will be deferred from the “summary agenda” for consideration at the open meeting of the Board of Directors of the Federal Deposit Insurance Corporation scheduled to be held at 10 a.m. on Tuesday, September 11, 2007, in the Board Room on the sixth floor of the FDIC Building located at 550—17th Street, NW., Washington, DC: Memorandum and resolution re: Proposed FDIC Liquidation Investment Policy.

Requests for further information concerning the meeting may be directed to Mr. Robert E. Feldman, Executive Secretary of the Corporation, at (202) 898-7122.

Dated: September 6, 2007.
Federal Deposit Insurance Corporation.
Robert E. Feldman,
Executive Secretary.

[FR Doc. E7-17845 Filed 9-10-07; 8:45 am]

BILLING CODE 6714-01-P